FEDERAL COMMUNICATIONS COMMISSION

47 CFR Part 73

[DA 02-3091, MB Docket No. 02-221, RM-10519]

Digital Television Broadcast Service; Wailuku, HI

AGENCY: Federal Communications Commission.

ACTION: Final rule.

SUMMARY: The Commission, at the request of LeSea Broadcasting Corporation, substitutes DTV channel 45 for DTV channel 20 at Wailuku, Hawaii. See 67 FR 52922, August 14, 2002. DTV channel 45 can be allotted to Wailuku in compliance with the principle community coverage requirements of Section 73.625(a) at reference coordinates 20-40-58 N. and 156-19-07 W. with a power of 87, HAAT of 1298 meters and with a DTV service population of 113 thousand. With this action, this proceeding is terminated.

DATES: Effective December 30, 2002.

FOR FURTHER INFORMATION CONTACT: Pam Blumenthal, Media Bureau, (202) 418-1600.

SUPPLEMENTARY INFORMATION: This is a synopsis of the Commission's Report and Order, MB Docket No. 02-221, adopted November 7, 2002, and released November 15, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.622 [Amended]

2. Section 73.622(b), the Table of Digital Television Allotments under Hawaii, is amended by removing DTV channel 20 and adding DTV channel 45 at Wailuku.

Federal Communications Commission.
Barbara A. Kreisman,
Chief, Video Division, Media Bureau.

[FR Doc. 02-29578 Filed 11-20-02; 8:45 am]

BILLING CODE 6712-01-P